NUCLEAR REGULATORY COMMISSION

[NRC-2014-0069]

Regulatory Guide 3.28, Welder Qualification for Welding in Areas of Limited Accessibility in Fuel Reprocessing Plants and in Plutonium Processing and Fuel Fabrication Plants

AGENCY: Nuclear Regulatory Commission.

ACTION: Regulatory guide; withdrawal.

SUMMARY: The U.S. Nuclear Regulatory Commission (NRC) is withdrawing Regulatory Guide 3.28, “Welder Qualification for Welding in Areas of Limited Accessibility in Fuel Reprocessing Plants and in Plutonium Processing and Fuel Fabrication Plants.” This guide is being withdrawn because more recently updated guidance is provided in RG 1.71, Rev. 1, “Welder Qualification for Areas of Limited Accessibility,” which was updated in March 2007.

ADDRESSES: Please refer to Docket ID NRC-2014-0069 when contacting the NRC about the availability of information regarding this document. You may access publicly-available information related to this action by the following methods:

• Federal Rulemaking Web site: Go to http://www.regulations.gov and search for Docket ID NRC-2014-0069. Address questions about NRC dockets to Carol Gallagher; telephone: 301-287-3422; email: Carol.Gallagher@nrc.gov. For technical questions, contact the individual(s) listed in the FOR FURTHER INFORMATION CONTACT section of this document.

• NRC's Agencywide Documents Access and Management System (ADAMS): You may access publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced. The bases document for the withdrawal of RG 3.28 is available in ADAMS under Accession No. ML13274A526.

• NRC's PDR: You may examine and purchase copies of public documents at the NRC's PDR, Room O1-F21, One White Flint North, 11555 Rockville Pike, Rockville, MD 20852.

FOR FURTHER INFORMATION CONTACT: Jose Cuadrado, Office of Nuclear Material Safety and Safeguards, telephone: 301-287-9127, email: Jose.Cuadrado@nrc.gov; or Jazel Parks, Office of Nuclear Regulatory Research, telephone: 301-251-7690, email: Jazel.Parks@nrc.gov, U.S. Nuclear Regulatory Commission, Washington, DC 20555-0001.

SUPPLEMENTAL INFORMATION:

I. Introduction

The NRC is withdrawing Regulatory Guide (RG) 3.28, “Welder Qualification for Welding in Areas of Limited Accessibility in Fuel Reprocessing Plants and in Plutonium Processing and Fuel Fabrication Plants,” which was published in May 1975 (ADAMS Accession No. ML003739371). RG 3.28 provides guidance on methods acceptable to the NRC for meeting quality assurance (QA) requirements for welding nuclear components for fuel reprocessing plants and for plutonium processing and fuel fabrication plants in areas of limited accessibility. RG 3.28 is being withdrawn because the guidance it provides is duplicated in RG 1.71, Rev. 1, “Welder Qualification for Areas of Limited Accessibility,” which was updated in March 2007 (ADAMS Accession No. ML070320476).

II. Further Information

The withdrawal of RG 3.28 does not alter any prior or existing licensing commitments based on its use. Regulatory guides may be withdrawn when their guidance no longer provides useful information, or is superseded by technological innovations, Congressional actions, or other events.

Regulatory guides are revised for a variety of reasons and the withdrawal of a regulatory guide should be thought of as the final revision of the guide. Although a regulatory guide is withdrawn, current licensees may continue to use it, and withdrawal does not affect any existing licenses or agreements. Withdrawal of a guide means that the guide should not be used for future NRC licensing activities. Changes to existing licenses can be accomplished using other regulatory products.

Dated at Rockville, Maryland, this 28th day of March 2014.
For the Nuclear Regulatory Commission.
Thomas H. Boyce,
Branch Chief, Regulatory Guidance and Generic Issues Branch, Division of Engineering, Office of Nuclear Regulatory Research.

[FR Doc. 2014-07928 Filed 4-8-14; 8:45 am]

BILLING CODE 7590-01-P